DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) approve the proposed information collection project: “Understanding Development Methods from Other Industries to Improve the Design of Consumer Health IT.” In accordance with the Paperwork Reduction Act, 44 U.S.C. 3501-3520, AHRQ invites the public to comment on this proposed information collection.

DATES: Comments on this notice must be received by March 28, 2011.

ADDRESSES: Written comments should be submitted to: Doris Lefkowitz, Reports Clearance Officer, AHRQ, by e-mail at doris.lefkowitz@AHRQ.hhs.gov.

Copies of the proposed collection plans, data collection instruments, and specific details on the estimated burden can be obtained from the AHRQ Reports Clearance Officer.

FOR FURTHER INFORMATION CONTACT: Doris Lefkowitz, AHRQ Reports Clearance Officer, (301) 427-1477, or by e-mail at doris.lefkowitz@AHRQ.hhs.gov.

SUPPLEMENTARY INFORMATION:

Proposed Project

Understanding Development Methods from Other Industries to Improve the Design of Consumer Health IT Consumer health information technology (IT) is the collection of tools, technologies, and artifacts that individuals can use to support their health care management tasks (Agarwal and Khuntia, 2009). Consumer health IT can play an important role in patients' efforts to coordinate their care and in ensuring that their personal values and interests help guide all clinical decisions. In order to accomplish this, consumer health IT solutions must take into account the particular needs of the consumer.

Useful consumer health IT products may enhance the quality of health care by empowering individual consumers to take a more active, effective, and collaborative role in their own personal health care. These products could provide the following capabilities to consumers:

• Information storage, archiving, and retrieval: The capabilities to search results of past examinations or lab tests, to interact with electronic versions of their health records, and identify when to seek health care services.

• Health monitoring: The capability to report data (e.g., blood pressure, weight) from various locations.

• Information seeking and searching: The capability to interactively search for a wealth of health-related information.

Despite the potential power of consumer health IT, consumers have not adopted these technologies to the same degree that they have adopted technology products marketed from other consumer product industries. One reason for slow adoption is that the marketplace lacks robust tools that allow for the complexity and diversity of personal health information management (PHIM) practices. These types of practices are influenced by a variety of user and contextual factors, including demographics, personal attitudes, the goals and objectives of users, and the broad range of tasks that users wish to perform. There is no comprehensive list of problems that users encounter as they collect and reflect on personal information; this creates a barrier for design of consumer health IT tools.

New practices for the development of consumer-facing digital tools are emerging in a variety of industries. The success of information management tools in other industries offers much to be learned and applied to the health care field.

In July of 2009, AHRQ held the Building Bridges: Consumer Needs and the Design of Health Information Technology workshop. The workshop brought together leaders from multiple disciplines, including health informatics, health sciences, information science, consumer health IT, and human factors to discuss the diverse needs of different consumer groups in managing their personal health information, and how these needs could be incorporated into the design of consumer health IT solutions. The outcome of the workshop was a framework to further the design of consumer health IT systems, based on an understanding of practices that consumers use in their PHIM. The final report also included a set of recommendations for additional work in the health IT field related to research and industry and policy. Recognizing that design plays a key role in consumer use of personal tools, one research-related recommendation that resulted from the workshop was to investigate the application of design methodologies used in other industries to consumer health IT design.

This project has the following goals:

(1) To investigate the product development approaches, methods, and philosophies from a variety of industries in order to identify promising design and development techniques that will be most applicable to consumer health IT.

(2) To disseminate the project findings and recommendations to vendors and developers of consumer health IT products to assist them in developing health IT products that are consumer-focused. This study is being conducted by AHRQ through its contractors, Westat and the University of Wisconsin, pursuant to AHRQ's statutory authority to conduct and support research (1) on health care and on systems for the delivery of such care, including activities with respect to health care technologies, 42 U.S.C. 299a(a)(5), and (2) to advance the use of computer-based health records, 42 U.S.C. 299b-3(a)(6).

Method of Collection

To achieve the goals of this project the following activities will be implemented:

(1) Semi-structured interviews will be conducted with key informants identified as being experts in the design, management, and/or marketing of consumer products that are relevant to consumer health IT products. The purpose of these interviews is to gather information related to their experiences in developing consumer products, focusing on the design processes that their company uses, how they segment the market, the role of users in testing during the various product development phases, and the factors that affect the success of their product development approaches.

(2) The final report will be provided in PDF format for easy download from the AHRQ National Resource Center for Health IT Web site.

Information collected by the study will support the development of recommendations for those developers and vendors who design, develop, and market consumer health IT products. The ultimate goal is to improve consumer health IT design and impact the adoption of this technology by consumers. This project will identify principles that led to the success of other consumer products, so that they can be evaluated for extension to the design and development of consumer health IT.

Estimated Annual Respondent Burden

Exhibit 1 shows the estimated annualized burden hours for the respondents' time to participate in this research. Semi-structured interviews will be conducted with no more than 15 individuals representing a variety of consumer-focused industries. The average burden will be 90 minutes per interview. The total annual burden is estimated to be 23 hours.

Exhibit 2 shows the estimated annual cost burden associated with the respondent's time to participate in this research. The total annual cost burden is estimated to be $1,770.

Exhibit 1—Estimated Annualized Burden Hours
Form name | Number of technical experts | Number of responses per expert | Hours per response | Total burden hours
Semi-structured interviews | 15 | 1 | 1.50 | 23
Total | 15 | 1 | 1.50 | 23

Exhibit 2—Estimated Annualized Cost Burden
Form name | Number of technical experts | Total burden hours | Average hourly wage rate * | Total cost burden
Semi-structured interviews | 15 | 23 | $76.94 | $1,770
Total | 15 | 23 | 76.94 | 1,770
* Wage rates calculations were not possible using data from the U.S. Department of Labor, Bureau of Labor Statistics, National Occupational Employment and Wage Estimates for the United States, Occupational Employment Statistics (OES). The OES categories are too broad to determine a wage rate for a “Director of Product Development.” Instead wage rate calculations are based on information from the Web site www.salary.com which has a tool providing a range of salaries for a variety of specific job titles. The salary for a “Product Development Director” generally ranges from $130,313 (25th percentile) to $189,771 (75th percentile) with an anticipated median of $160,042. Assuming 2,080 hours per year (40 hours per week), the resulting median hourly rate is $76.94.

Estimated Annual Costs to the Federal Government

Exhibit 3 shows the estimated total and annualized cost to the Federal Government for this research project. Since this project's activities will span a single year the total and annualized costs are identical. The estimated total cost is $409,388.

Exhibit 3—Estimated Total and Annual Cost * to the Federal Government
Cost component | Total cost | Annualized cost
Administration and Coordination Activities | $91,673 | $91,673
Technical Expert Panel | 74,217 | 74,217
Environmental Scan and Grey Literature Review | 58,413 | 58,413
OMB Submission Package | 11,574 | 11,574
Interviews with Study Participants | 102,018 | 102,018
Recommendations for Health IT Vendors and Developers | 48,612 | 48,612
Dissemination Activities | 14,325 | 14,325
508 Compliance | 8,556 | 8,556
Total | 409,388 | 409,388
* Costs are fully loaded including overhead, G&A and fees.

Request for Comments

In accordance with the above-cited Paperwork Reduction Act legislation, comments on AHRQ's information collection are requested with regard to any of the following: (a) Whether the proposed collection of information is necessary for the proper performance of AHRQ healthcare research and healthcare information dissemination functions, including whether the information will have practical utility; (b) the accuracy of AHRQ's estimate of burden (including hours and costs) of the proposed collection(s) of information; (c) ways to enhance the quality, utility, and clarity of the information to be collected; and (d) ways to minimize the burden of the collection of information upon the respondents, including the use of automated collection techniques or other forms of information technology.

Comments submitted in response to this notice will be summarized and included in the Agency's subsequent request for OMB approval of the proposed information collection. All comments will become a matter of public record.

Dated: January 14, 2011.
Carolyn M. Clancy,
Director.

[FR Doc. 2011-1544 Filed 1-26-11; 8:45 am]

BILLING CODE 4160-90-M